DEPARTMENT OF ENERGY

Federal Energy Regulatory Commission

[Project No. 10615-058]

Tower Kleber Limited Partnership; Notice Soliciting Scoping Comments

Take notice that the following hydroelectric application has been filed with the Commission and is available for public inspection.

a. Type of Application: New Major License.

b. Project No.: 10615-058.

c. Date Filed: April 28, 2022.

d. Applicant: Tower Kleber Limited Partnership (Tower Kleber).

e. Name of Project: Tower and Kleber Hydroelectric Project.

f. Location: On the Black River in Cheboygan County, Michigan.

g. Filed Pursuant to: Federal Power Act 16 U.S.C. 791(a)-825(r).

h. Applicant Contact: Mr. Nelson Turcotte, General Partner, Tower Kleber Limited Partnership, 764 Lexington Crescent, Thunder Bay, ON P7B 7B8, Canada; Phone at (807) 633-3362, or email at hydro@eastlink.ca.

i. FERC Contact: Arash Barsari at (202) 502-6207, or Arash.JalaliBarsari@ferc.gov.

j. Deadline for filing scoping comments: August 18, 2023.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the project name and docket number on the first page: Tower and Kleber Hydroelectric Project (P-10615-058).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application is not ready for environmental analysis at this time.

l. Project Description: The Tower and Kleber Hydroelectric Project consists of two developments, the Tower Development and Kleber Development.

The Tower Development consists of a 22.75-foot-high concrete gravity dam that includes a 110-foot-long spillway section with a crest elevation of 722.2 feet National Geodetic Vertical Dam of 1929 (NGVD 29), and a 35.3-foot-long intake structure with four wooden sluice gates that are each equipped with a trashrack with 1.25-inch clear bar spacing. The Tower Development dam creates an impoundment that has a normal elevation of 722.1 feet NGVD 29. From the impoundment, water flows through the intake structure to two 280-kilowatt (kW) vertical Francis turbine-generator units located in an approximately 32.5-foot-long, 35.3-foot-wide powerhouse. Water is discharged from the turbines to a tailrace. Electricity generated at the Tower Development powerhouse is transmitted to the electric grid via an 87-foot-long, 2.4-kilovolt (kV) underground generator lead line, a 2.4/12.5-kV step-up transformer, and a 12.5-kV underground transmission line.

Project recreation facilities at the Tower Development include: (1) a boat access site and parking area approximately 1,300 feet upstream of the dam on the western shore of the impoundment; (2) a canoe take-out site located west of the non-overflow concrete embankment section of the dam; (3) an approximately 270-foot-long canoe portage route; (4) a canoe put-in site immediately downstream of the dam; (5) a handicapped-accessible fishing site and parking area approximately 700 feet upstream of the dam on the western shore of the impoundment; and (6) an approximately 370-foot-long tailrace access footpath from the parking area of the fishing site to the canoe portage route.

The Kleber Development consists of an approximately 535-foot-long dam that includes a 12-foot-wide ogee spillway and two 11-foot-wide intake gates that are each equipped with a trashrack with 2.56-inch clear bar spacing. The Kleber Development dam creates an impoundment that has a normal elevation of 701.1 feet NGVD 29. From the impoundment, water flows through the intake gates to two 7-foot-diameter penstocks that provide flow to two 600-kW vertical Kaplan turbine-generator units located in a 40-foot-long, 42-foot-wide powerhouse. Water is discharged from the turbines to a tailrace. Electricity generated at the Kleber Development powerhouse is transmitted to the electric grid via a 168-foot-long, 2.4-kV generator lead line and a 2.4/12.5-kV step-up transformer.

Project recreation facilities at the Kleber Development include: (1) a boat access site and parking area approximately 4,000 feet upstream of the dam on the eastern shore of the impoundment; (2) a canoe take-out site at the western embankment of the dam; (3) an approximately 580-foot-long canoe portage trail; (4) a tailrace access site and parking area immediately downstream of the powerhouse at the northern shore of the Black River; and (5) a tailrace access and canoe put-in site at the southern shore of the Black River approximately 400 feet downstream of the dam.

The average annual energy production of the project from 2017 through 2021 was 7,742 megawatt-hours.

Tower Kleber is proposing to include the existing Black River Streamside Rearing Facility (Rearing Facility) as part of the project. Tower Kleber proposes to remove the following land parcels from the project boundary: (1) an approximately 8-acre area adjacent to the east and west shorelines of the Black River from approximately 700 feet upstream to 900 feet downstream of the Tower Development dam; (2) an approximately 10-acre area northeast of the east earthen embankment of the Kleber Development; and (3) an approximately 0.2-acre area south of the emergency spillway at the Kleber Development. Tower Kleber also proposes to: (1) continue to operate the project in a run-of-river mode; (2) continue to maintain an impoundment elevation of 722.1 NGVD 29 for the Tower Development and 701.1 feet NGVD 29 for the Kleber Development, and limit impoundment fluctuations to no more than +/− 0.25 foot; (3) continue to limit the winter drawdown in the impoundments to no more than 1 foot, from November 1 through March 31; (4) continue to maintain the Rearing Facility; (5) implement an operation compliance monitoring plan; (6) monitor invasive species and install signage for zebra mussels at the boat launch areas; (7) monitor dissolved oxygen, sediment, and mercury in the impoundments; and (8) continue to operate and maintain project recreation facilities.

m. At this time, the Commission has suspended access to the Commission's Public Reference Room. Copies of the application can be viewed on the Commission's website at https://www.ferc.gov using the “eLibrary” link. Enter the project's docket number, excluding the last three digits, in the docket number field to access the document (i.e., P-10615). For assistance, contact FERC at FERCOnlineSupport@ferc.gov, or call toll free, (886) 208-3676 or TTY (202) 502-8659.

You may also register at https://ferconline.ferc.gov/FERCOnline.aspx to be notified via email of new filings and issuances related to this or other pending projects. For assistance, please contact FERC Online Support at FERCOnlineSupport@ferc.gov.

n. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

o. Scoping Process

Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS.

At this time, we do not anticipate holding public or agency scoping meetings. Instead, we are soliciting written comments and suggestions on the preliminary list of issues and alternatives to be addressed in the NEPA document, as described in Scoping Document 1 (SD1), issued July 19, 2023.

Copies of the SD1 outlining the subject areas to be addressed in the NEPA document were distributed to the parties on the Commission's mailing list and the applicant's distribution list. Copies of the SD1 may be viewed on the web at http://www.ferc.gov using the “eLibrary” link (see item m above).

Dated: July 19, 2023.
Debbie-Anne A. Reese,
Deputy Secretary.

[FR Doc. 2023-15702 Filed 7-24-23; 8:45 am]

BILLING CODE 6717-01-P